DEPARTMENT OF JUSTICE

Drug Enforcement Administration

Daniel A. Maynard, D.O.; Revocation of Registration

On June 23, 2003, the Deputy Assistant Administrator, Office of Diversion Control, Drug Enforcement Administration (DEA), issued an Order to Show Cause to Daniel A. Maynard, D.O. (Dr. Maynard) of Dallas, Texas, notifying him of an opportunity to show cause as to why DEA should not revoke his DEA Certificate of Registration AM5672591 under 21 U.S.C. 824(a) and deny any pending applications for renewal or modification of that registration. As a basis for revocation, the Order to Show Cause alleged that Dr. Maynard is not currently authorized to practice medicine or handle controlled substances in Texas, his State of registration and practice. The order also notified Dr. Maynard that should no request for a hearing be filed within 30 days, his hearing right would be deemed waived.

The Order to Show Cause was sent by certified mail to Dr. Maynard at his address of record at 2929 Martin Luther King Jr. Blvd., Dallas, Texas 75215. According to the return receipt, on or around June 30, 2003, the Order was accepted on Dr. Maynard's behalf. DEA has not received a request for hearing or any other reply from Dr. Maynard or anyone purporting to represent him in this matter.

Therefore, the Acting Deputy Administrator, finding that (1) 30 days have passed since the receipt of the Order to Show Cause, and (2) no request for a hearing having been received, concludes that Dr. Maynard is deemed to have waived his hearing right. See Samuel S. Jackson, D.D.S., 67 FR 65145 (2002); David W. Linder, 67 FR 12579 (2002). After considering material from the investigative file, the Acting Deputy Administrator now enters her final order without a hearing pursuant to 21 CFR 1301.43(d) and (e) and 1301.46.

The Acting Deputy Administrator finds that Dr. Maynard currently possesses DEA Certificate of Registration AM5672591. The Acting Deputy Administrator further finds that, effective June 20,2003, the Disciplinary Panel of the Texas State Board of Medical Examiners temporarily suspended Dr. Maynard's medical license. The suspension was based upon findings of fact that, inter alia, Dr. Maynard “exhibited a pattern of conduct involving improper non-therapeutic and medically unnecessary prescribing of narcotics, controlled substances and dangerous drugs to patients” and that such conduct “appears to have resulted in patient harm and is related to their deaths from apparent drug overdoses.” Additionally, on June 20, 2003, the Texas Department of Public Safety, based upon the Board of Medical Examiner's license suspension, revoked Dr. Maynard's State of Texas, Department of Safety, Controlled Substance Registration.

The investigative file contains no evidence that the Board of Medical Examiner's Temporary Suspension Order has been stayed or that Dr. Maynard's medical license has been reinstated. Therefore, the Acting Deputy Administrator finds that Dr. Maynard is not currently authorized to practice medicine in the State of Texas. As a result, it is reasonable to infer he is also without authorization to handle controlled substances in that State.

DEA does not have statutory authority under the Controlled Substances Act to issue or maintain a registration if the applicant or registrant is without State authority to handle controlled substances in the State in which he conducts business. See 21 U.S.C. 802(21), 823(f) and 824(a)(3). This prerequisite has been consistently upheld. See Muttaiya Darmarajeh, M.D., 66 FR 52936 (2001); Dominick A. Ricci, M.D., 58 FR 51104 (1993); Bobby Watts, M.D., 53 FR 11919 (1988).

Here, it is clear Dr. Maynard's medical license has been suspended and he is not currently licensed to handle controlled substances in Texas, where he is registered with DEA. Therefore, he is not entitled to a DEA registration in that State.

Accordingly, the Acting Deputy Administrator of the Drug Enforcement Administration, pursuant to the authority vested in her by 21 U.S.C. 823 and 824 and 28 CFR 0.100(b) and 0.104, hereby orders that DEA Certificate of Registration AM5672591, issued to Daniel A. Maynard, D.O., be, and it hereby is, revoked. The Acting Deputy Administrator further orders that any pending applications for renewal of such registration be, and they hereby are, denied. This order is effective May 26, 2004.

Dated: March 29, 2004.
Michele M. Leonhart,
Acting Deputy Administrator.

[FR Doc. 04-9332 Filed 4-23-04; 8:45 am]

BILLING CODE 4410-09-M